DEPARTMENT OF ENERGY

Federal Energy Regulatory Commission

Notice of Application for Amendment of License and Soliciting Comments, Motions To Intervene, and Protests

March 29, 2001.

Take notice that the following hydroelectric application has been filed with the Commission and is available for public inspection:

a. Application Type: Amendment of License.

b. Project No.: 1394-040.

c. Date Filed: January 12, 2000 and November 9, 2000.

d. Applicant: Southern California Edison Company (SCE).

e. Name of Project: Bishop Creek Hydroelectric Project.

f. Location: On Bishop Creek, in Inyo County, California. The project uses lands managed by the U.S. Forest Service (FS) in the Inyo National Forest, and lands managed by the Bureau of Land Management (BLM).

g. Filed Pursuant to: Federal Power Act, 16 U.S.C. 791(a)-825(r).

h. Applicant's Contact: Stephen E. Pickett, 2244 Walnut Grove Ave., Rosemead, CA, 91770, (626) 302-4459.

i. FERC Contact: Any questions on this notice should be addressed to Doan Pham at (202) 219-2851 or e-mail address doan.pham@ferc.fed.us.

j. Deadline for filing comments, motions to intervene, or protests: May 4, 2001.

All documents (original and eight copies) should be filed with: David P. Boergers, Secretary, Federal Energy Regulatory Commission, 888 First Street, NE., Washington, DC 20426. Comments, protests, and motions to intervene, may be filed electronically via the internet in lieu of paper. See, 18 CFR 385.2001(a)(1)(iii) and the instructions on the Commission's web site at http://www.ferc.fed.us/efi/doorbell.htm.

Please include the Project Number (1394-040) on any comments, protests, or motions filed.

k. Description of Amendment: SCE proposes to delete the following transmission lines, extending from the respective powerhouses to the control substation (except for the line from the Big Creek (BC) 6 powerhouse): (1) a 6.9-mile-long, 55-kilovolt (kV) transmission line from BC2 powerhouse, (2) a 0.6-mile-long, 115-kV transmission line from BC3 powerhouse, (3) 150-foot-long, 55-kV transmission line from BC5 powerhouse, (4) 630-foot-long, 55-kV transmission line from BC6 powerhouse to pole switch 530, and (5) 15.56 acres of federal lands for transmission lines right-of-way (3.72 acres in BLM lands, and 11.84 in FS lands). SCE indicates that these lines should be deleted because they are part of SCE's interconnected system. SCE also proposes changes in project boundary line to (1) add about 1.17 acres of BLM lands to include existing access roads and gaging stations within the project boundary, and (2) delete 33.18 acres FS lands to exclude non-operational company housing.

l. Locations of the Application: A copy of the application is available for inspection and reproduction at the Commission's Public Reference Room, located at 888 First Street NE., Room 2A, Washington, DC 20426, or by calling (202) 208-1371. This filing may be viewed on http://www.ferc.fed.us/online/rims.htm (call (202) 208-2222 for assistance). A copy is also available for inspection and reproduction at the addresses in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-8253 Filed 4-3-01; 8:45 am]

BILLING CODE 6717-01-M